DEPARTMENT OF JUSTICE

Notice of Lodging of Consent Decree Pursuant to The Comprehensive Environmental Response, Compensation, and Liability Act, 42 U.S.C. §§ 9601 to 9675

Under 42 U.S.C. 9622, notice is hereby given that on December 22, 1999, a proposed consent decree in United States v. Robert W. Meyer, Jr., Civil Action No. 1:97-CV-526, was lodged with the United States District Court for the Western District of Michigan.

In this action the United States sought to recover past costs incurred in connection with the clean-up of the contiguous Northernaire Plating Company and Kysor Industrial Corporation Superfund Sites located in Cadillac, Wexford County, Michigan. The proposed consent decree resolves the United States' claims against defendant Robert W. Meyer, Jr., as the operator of a facility that contributed to the harm associated with the Northernaire Site, in return for a total payment of $625,000.

The Department of Justice will receive, for a period of thirty (30) days from the date of this publication, comments relating to the proposed consent decree. Comments should be addressed to the Assistant Attorney General for the Environment and Natural Resources Division, Department of Justice, Washington, D.C. 20530, and should refer to United States v. Robert W. Meyer, Jr., D.J. Ref. #90-11-2-837B.

The proposed consent decree may be examined at the office of the United States Attorney, 330 Ionia NW, Room 501, Grand Rapids, Michigan 49503, and at U.S. EPA Region 5, 77 West Jackson Boulevard, Chicago, Illinois 60604. A copy of the proposed consent decree may also be obtained by mail from the Consent Decree Library, P.O. Box 7611, Washington, D.C. 20044-7611. In requesting a copy, please refer to the referenced case and enclose a check in the amount of $5.50 (25 cents per page reproduction costs), payable to the Consent Decree Library.

Bruce Gelber,
Deputy Chief, Environmental Enforcement Section, Environment and Natural Resources Division.

[FR Doc. 00-1270 Filed 1-19-00; 8:45 am]

BILLING CODE 4410-15-M